DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and CFR 1320.5. The following are those information collections recently submitted to OMB.

1. Analysis of Guidelines for the Conduct of Research Adopted by Medical Schools or their Components—NEW—The Office of Research Integrity (ORI) is responsible for ensuring the integrity of the research supported by the Public Health Service. Section 493 of the Public Health Service Act, provides that the Secretary by regulation shall require that each entity which applies for a grant, contract or cooperative agreement which involves the conduct of biomedical or behavioral research shall establish policies and procedures to review, investigate and report allegations of research misconduct in connection with the research conducted at or sponsored by the applicant institute with PHS supported funds. ORI plans on requesting copies of the guidelines for the conduct of research adopted by accredited medical schools in the United States. ORI will use the information to develop technical assistance materials and an instructional workshop which will assist medical schools in formulating guidelines. Respondents: State and Local governments; Businesses or other for-profit, non-profit institutions—Burden Information for Solicitation—Number of Respondents: 125; Burden per Response: .25 hours; Total Burden for Solicitation: 31 hours; Burden Information for Check List—Number of Respondents: 125; Burden per Response: 1 hour; Total Burden for Check List: 125 hours; Burden Information for Telephone Calls—Number of Respondents: 13; Burden per Response: 625 hours; Total Burden for telephone calls: 16 hours; Total Burden: 172 hours.

OMB Desk Officer: Allison Eydt.

Copies of the information collection package listed above can be obtained by calling the OS Reports Clearance Officer on (202) 690-6207. Written comments and recommendations for the proposed information collection should be sent directly to the OMB desk officer designated above the following address:

Human Resources and Housing Branch, Office of Management and Budget, New Executive Office Building, Room 10235, 725 17th Street, N.W., Washington, D.C. 20503.

Comments may also be sent to Cynthia Agens Bauer, OS Reports Clearance Officer, Room 503H, Hubert H. Humphrey Building, 200 Independence Ave S.W., Washington, D.C., 20201. Written comments should be received within 30 days of this notice.

Dated: June 1, 2000.
Dennis P. Williams,
Deputy Assistant Secretary, Budget.

[FR Doc. 00-14688 Filed 6-8-00; 8:45 am]

BILLING CODE 4150-04-M